DEPARTMENT OF HEALTH AND HUMAN SERVICES

Substance Abuse and Mental Health Services Administration

Center for Substance Abuse Prevention; Notice of Cancellation of Meeting

Pursuant to Public Law 92-462, notice is hereby given of a cancellation of the March 8, 2010 meeting of the Substance Abuse and Mental Health Services Administration (SAMHSA) Drug Testing Advisory Board (DTAB).

Public notice was given in the Federal Register on February 19, 2010 (Volume 75, Number 33, and Page 7483) that the DTAB would be meeting on March 8, 2010, in the Sugarloaf and Seneca Conference Rooms, 1 Choke Cherry Road, Rockville, Maryland. The meeting was canceled due to unforeseen circumstances. An alternate date, time and location for the meeting will be announced in the Federal Register when arrangements have been made.

Members of the public wishing further information concerning this cancellation notice or any future meetings of the DTAB should contact the Designated Federal Official, Donna M. Bush, PhD, 1 Choke Cherry Road, Room 2-1033, Rockville, MD 20857, Telephone: 240-276-2600, FAX: 240-276-2610.

Toian Vaughn,
Committee Management Officer, Substance Abuse and Mental Health Services Administration.

[FR Doc. 2010-5076 Filed 3-9-10; 8:45 am]

BILLING CODE 4162-20-P